DEPARTMENT OF STATE

[Public Notice 7014]

Shipping Coordinating Committee; Notice of Committee Meeting

The Shipping Coordinating Committee (SHC) will conduct an open meeting at 9:30 a.m. on Tuesday, June 8, 2010, in Room 6103 of the United States Coast Guard Headquarters Building, 2100 Second Street, SW., Washington, DC 20593-0001. The primary purpose of the meeting is to prepare for the International Maritime Organization (IMO) Diplomatic Conference to amend the International Convention on Standards of Training, Certification and Watchkeeping for Seafarers (STCW), 1978 and the Seafarers' Training, Certification and Watchkeeping (STCW) Code (STCW CONF.2) to be held at the Philippine International Convention Center (PICC), in Manila, The Philippines, from June 21 to June 25, 2010.

The primary matters to be considered include:

— Adoption of the agenda

— Adoption of the Rules of Procedure

— Election of Vice-Presidents and other officers of the Conference

— Appointment of the Credentials Committee

— Organization of the work of the Conference, including the establishment of other committees, as necessary

— Consideration of the draft amendments to the International Convention on Standards of Training, Certification and Watchkeeping for Seafarers, 1978

— Consideration of the draft amendments to the Seafarers' Training, Certification and Watchkeeping (STCW) Code

— Consideration of draft resolutions and recommendations and related matters

— Consideration of the reports of the credentials committees and other committees

— Adoption of the Final Act and any instruments, resolutions and recommendations resulting from the work of the Conference

— Signature of the Final Act of the Conference

Members of the public may attend this meeting up to the seating capacity of the room. To facilitate the building security process, those who plan to attend should contact the meeting coordinator, Ms. Zoe Goss, by e-mail at zoe.a.goss@uscg.mil, by phone at (202) 372-1425, by fax at (202) 372-1925, or in writing at Commandant (CG-5212), U.S. Coast Guard, 2100 2nd Street, SW., Stop 7126, Washington, DC 20593-7126. A member of the public requesting reasonable accommodation should make such request prior to Tuesday, June 1, 2010, 7 days prior to the meeting date. Requests made after this date may not be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: May 11, 2010.
Jon Trent Warner,
Executive Secretary, Shipping Coordinating Committee, Department of State.

[FR Doc. 2010-11855 Filed 5-17-10; 8:45 am]

BILLING CODE 4710-09-P